COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes products from the Procurement List previously furnished by such agencies.

DATES: Date added to and deleted from the Procurement List: March 3, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 5/25/2018 (83 FR 102), 11/16/2018 (83 FR 222), and 12/21/2018 (83 FR 245), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSNs—Product Names:

4010-01-250-5428—Assembly, Chain, Single Leg, HEMTT, 12′ L

4010-01-224-9207—Assembly, Chain, Single Leg

Mandatory Source of Supply: NewView Oklahoma, Inc., Oklahoma City, OK

Mandatory for: 100% of the requirement of the Department of Defense

Contracting Activity: Defense Logistics Agency Land and Maritime

NSNs—Product Names:

6135-01-616-5152—Battery, Non-Rechargeable, AA, 1.5V, Alkaline, NEDA 15A, PG/8

6135-01-308-5688—Battery, Non-Rechargeable, BR-2/3A, 3V, Lithium, EA/1

6135-01-435-5558—Battery, Non-Rechargeable, Cylindrical, 3.6V, Lithium, EA/1

Mandatory Source of Supply: Eastern Carolina Vocational Center, Inc., Greenville, NC

Mandatory for: Total Government Requirement

Contracting Activity: Defense Logistics Agency Land and Maritime

NSNs—Product Names:

6135-01-447-0950—Battery, Non-Rechargeable, AA, 1.5V, Alkaline, NEDA 15A, PG/4

6135-01-446-8307—Battery, Non-Rechargeable, C, 1.5V, Alkaline, NEDA 14A, PG/4

6135-01-446-8308—Battery, Non-Rechargeable, AAA, 1.5V, Alkaline, NEDA 24A, PG/4

Mandatory Source of Supply: Eastern Carolina Vocational Center, Inc., Greenville, NC

Mandatory for: Total Government Requirement

Contracting Activity: Federal Acquisition Service, GSA/FSS Greater Southwest Acquisition CTR (7FCO)

Deletions

On 11/16/2018 (83 FR 222), 11/30/2018 (83 FR 231), 12/10/2018 (83 FR 236), and 12/14/2108 (83 FR 240), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Product(s)

NSN—Product Name: MR 10663—Pouf Balls, Bath, Toddler

Mandatory Source of Supply: Winston-Salem Industries for the Blind, Inc., Winston-Salem, NC

NSN—Product Name: MR 546—Sponge, All-Purpose, Nylon Mesh, Large

Mandatory Source of Supply: Alphapointe, Kansas City, MO

Contracting Activity: Defense Commissary Agency

NSN—Product Name: 7520-00-286-1724—File, Sorter, Letter, 1-31, Blue

Mandatory Source of Supply: Exceptional Children's Foundation, Culver City, CA

Contracting Activity: GSA/FAS Admin SVCS Acquisition BR(2), New York, NY

NSN—Product Name: 7510-01-600-8037—Dated 2018 12-Month 2-Sided Laminated Wall Planner, 24″ x 37″

Mandatory Source of Supply: Chicago Lighthouse Industries, Chicago, IL

Contracting Activity: GSA/FAS Furniture Systems MGT DIV, Philadelphia, PA

NSN—Product Name: 8305-00-205-3558—Cheesecloth, Remnants, White, 50 lbs

Mandatory Source of Supply: Lions Services, Inc., Charlotte, NC

Contracting Activity: GSA/FSS Greater Southwest Acquisiti, Fort Worth, TX

Patricia Briscoe,
Deputy Director, Business Operations (Pricing and Information Management).

[FR Doc. 2019-00737 Filed 1-31-19; 8:45 am]

BILLING CODE 6353-01-P